DEPARTMENT OF HEALTH AND HUMAN SERVICES

Health Resources and Services Administration

Maternal and Child Health Bureau

AGENCY: Health Resources and Services Administration (HRSA), HHS.

ACTION: Notice of Non-competitive Supplemental Funding to Georgetown University.

SUMMARY: The Health Resources and Services Administration (HRSA) is issuing non-competitive supplemental funding under the Maternal Child Health Bureau, Title V program to ensure that Georgetown University, Maternal and Child Health Library can continue to provide much needed services to MCH professionals and members of the public.

SUPPLEMENTARY INFORMATION: Intended Recipient of the Award: Georgetown University.

Amount of the Non-Competitive Supplemental Funding: $137,500.

Project Period: The original project period for this grant is from January 1, 2005 through December 31, 2009.

Period of Supplemental Support: January 1, 2010 through March 31, 2010.

Authority: This activity is under the authority of Title V, Section 501(a)2 of the Social Security Act as amended, 42 U.S.C. 701.

Catalogue of Federal Domestic Assistance Number: 93.110.

Justification for Non-Competitive Supplemental Funding

The Maternal and Child Health (MCH) Library at Georgetown University serves as a national information and education resource library to help meet the changing needs of professionals, families with children, and the general public in the field of maternal and child health. The overall goal is to use information science and information technology to identify, collect, and organize information from the MCH field that is not readily available from other information sources and to make the information available for application by the MCH community in a timely, easy-to-access manner.

Due to an unanticipated delay in the issuance of the funding opportunity announcement for this grant program, the award of non-competitive funding for the period January 1, 2010, to March 31, 2010, to Georgetown University is necessary. In early fiscal year 2010, an open competition will take place for this grant program. The award of non-competitive supplemental funding for Georgetown University will enable the MCH Library to continue to provide this important service to MCH professionals and members of the public without disruption or delays until the results of the competition are known and a new award can be issued.

FOR FURTHER INFORMATION CONTACT: James A. Resnick, Public Health Analyst, Office of Data and Program Development, Maternal and Child Health Bureau, Health Resources and Services Administration, 5600 Fishers Lane, Rockville, MD 20857; phone 301-443-3222; e-mail: JResnick@hrsa.gov.

Dated: January 8, 2010.
Mary K. Wakefield,
Administrator.

[FR Doc. 2010-476 Filed 1-12-10; 8:45 am]

BILLING CODE 4165-15-P